DEPARTMENT OF LABOR

Mine Safety and Health Administration

Petitions for Modification

The following parties have filed petitions to modify the application of existing safety standards under section 101(c) of the Federal Mine Safety and Health Act of 1977.

1. RS&W Coal Company, Inc.

[Docket No. M-2005-079-C]

RS&W Coal Company, Inc., 207 Creek Road, Klingerstown, Pennsylvania 17941 has filed a petition to modify the application of 30 CFR 75.1312 (Explosives and detonators in underground magazines) to its RS&W Drift Mine (MSHA I.D. No. 23-01818) located in Schuylkill County, Pennsylvania. The petitioner requests a modification of the existing standard to permit the amount of explosives to be how much explosives are stored in a type two magazine built in accordance with ATF requirements in lieu of limiting the amount of explosives used underground to not more than 48 hours; to permit the use of two (2) magazines separated with 4 inches of hardwood; and to permit location of storage explosives and detonators in the anthracite coal mine gangway to be located 5 feet from the rail and offset from the rib at least 2 feet into solid rock, to protect the magazines from the dangers of moving vehicles and sources of electrical current. The petitioner asserts that the proposed alternative method would provide at least the same measure of protection as the existing standard.

2. Canyon Fuel Company, LLC

[Docket No. M-2005-080-C]

Canyon Fuel Company, LLC, 397 South 800 West, Salina, Utah 84654 has filed a petition to modify the application of 30 CFR 75.1909(b)(6) (Nonpermissible diesel-powered equipment; design and performance requirements) to its SUFCO Mine (MSHA I.D. No. 42-00089) located in Sevier County, Utah; West Elk Mine (MSHA I.D. No. 05-03672) located in Gunnison County, Colorado; its Skyline Mine (MSHA I.D. No. 42-01566) and its Dugout Canyon Mine (MSHA I.D. No. 42-01890) located in Carbon County, Utah. The petitioner proposes to operate its six-wheel Getman Roadbuilder grader, Model RDG-1504S, Serial Number 6787 without front brakes as originally designed. The petitioner will provide training for grader operators to lower the moldboard to provide additional stopping capability in emergency situations, and to recognize the appropriate speeds to use on different roadway conditions, and to limit the maximum speed to 10 miles per hour. The petitioner asserts that the proposed alternative method would provide at least the same measure of protection as the existing standard.

3. Black Beauty Coal Company

[Docket No. M-2005-081-C]

Black Beauty Coal Company, 7100 Eagle Crest Blvd., Suite 100, Evansville, Indiana 47715 has filed a petition to modify the application of 30 CFR 75.500(d) (Permissible electric equipment) to its Air Quality #1 Mine (MSHA I.D. No. 12-02010) located in Knox County, Indiana; Francisco Mine—UG Pit (MSHA I.D. No. 12-02295) located in Gibson County, Indiana; Gateway Mine (MSHA I.D. No. 11-02408) located in Randolph County, Illinois; and its Riola Mine Complex—Riola Portal (MSHA I.D. No. 11-02971) and Riola Mine Complex—Vermilion Grove Portal (MSHA I.D. No. 11-03060) located in Vermilion County, Illinois. The petitioner requests a modification of the existing standard to permit an alternative method of compliance to use battery-powered non-permissible hand-held computers in or inby the last open crosscut, including in the return airways to allow supervisors and selected miners to collect and record data pertinent to safety observations during work processes. The petitioner has listed specific procedures in this petition that will be followed when its proposed alternative method is implemented. The petitioner asserts that the proposed alternative method would provide at least the same measure of protection as the existing standard.

4. Big Ridge, Inc.

[Docket No. M-2005-082-C]

Big Ridge, Inc., 420 Long Lane Road, Equality, Illinois 62934 has filed a petition to modify the application of 30 CFR 75.500(d) (Permissible electric equipment) to its Willow Lake Mine (MSHA I.D. No. 11-03054) located in Saline County, Illinois. The petitioner requests a modification of the existing standard to permit an alternative method of compliance to use battery-powered non-permissible hand-held computers in or inby the last open crosscut, including in the airways to allow supervisors and selected miners to collect and record data pertinent to safety observations during work processes. The petitioner has listed specific procedures in this petition that will be followed when its proposed alternative method is implemented. The petitioner asserts that the proposed alternative method would provide at least the same measure of protection as the existing standard.

5. Dodge Hill Mining Company, LLC

[Docket No. M-2005-083-C]

Dodge Hill Mining Company, LLC, P.O. Box 165, Sturgis, Kentucky 42459 has filed a petition to modify the application of 30 CFR 75.500(d) (Permissible electric equipment) to its Dodge Hill Mine (MSHA I.D. No. 15-18335) located in Union County, Kentucky. The petitioner requests a modification of the existing standard to permit an alternative method of compliance to use battery-powered non-permissible hand-held computers in or inby the last open crosscut, including in the airways to allow supervisors and selected miners to collect and record data pertinent to safety observations during work processes. The petitioner has listed specific procedures in this petition that will be followed when its proposed alternative method is implemented. The petitioner asserts that the proposed alternative method would provide at least the same measure of protection as the existing standard.

6. Ohio County Coal Company

[Docket No. M-2005-084-C]

Ohio County Coal Company, 19070 Highway 1078 South Henderson, Kentucky 42420 has filed a petition to modify the application of 30 CFR 75.500(d) (Permissible electric equipment) to its Dyson Creek Mine (MSHA I.D. No. 15-13920) located in Webster County, Kentucky; Freedom Mine (I.D. No. 15-17587) located in Henderson County, Kentucky; and its Big Run Mine (I.D. No. 15-18552) located in Ohio County, Kentucky. The petitioner requests a modification of the existing standard to permit an alternative method of compliance to use battery-powered non-permissible hand-held computers in or inby the last open crosscut, including in the airways to allow supervisors and selected miners to collect and record data pertinent to safety observations during work processes. The petitioner has listed specific procedures in this petition that will be followed when its proposed alternative method is implemented. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before January 27, 2006. Copies of these petitions are available for inspection at that address.

Dated at Arlington, Virginia, this 20th day of December, 2005.
Rebecca J. Smith,
Acting Director, Office of Standards, Regulations, and Variances.

[FR Doc. E5-7900 Filed 12-27-05; 8:45 am]

BILLING CODE 4510-43-P